DEPARTMENT OF COMMERCE

National Oceanic and Atmospheric Administration

Marine Mammals and Endangered Species

AGENCY: National Marine Fisheries Service (NMFS), National Oceanic and Atmospheric Administration (NOAA), Commerce.

ACTION: Notice; issuance of permits.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Sara Young (Permit No. 22187), Malcolm Mohead (Permit Nos. 21857, 22078, and 22324), Courtney Smith (Permit No. 22141), and Jennifer Skidmore (Permit No. 22723); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
21857 | 0648-XG655 | Tonya Wiley, Havenworth Coastal Conservation, 5120 Beacon Road, Palmetto, FL 34221 | 83 FR 63833, December 12, 2018 | April 1, 2019.
22078 | 0648-XG655 | The NFMS Southeast Fisheries Science Center, 75 Virginia Beach Drive, Miami, FL 33149 (Responsible Party: Theo Brainerd, Ph.D.) | 83 FR 63833, December 12, 2018 | April 1, 2019.
22141 | 0648-XG516 | Samuel Wasser, Ph.D., University of Washington, Department of Biology, P.O. Box 351800, Seattle, WA 98195 | 84 FR 1428, February 4, 2019 | April 10, 2019.
22187 | 0648-XG540 | Heather E. Liwanag, Ph.D., 1 Grand Avenue, San Luis Obispo, CA 93407 | 83 FR 66250, December 26, 2019 | April 10, 2019.
22324 | 0648-XG655 | The University of Florida, Florida Museum of Natural History, Dickinson Hall, Gainesville, FL 32611 (Responsible Party: Gavin Naylor, Ph.D.) | 83 FR 63833, December 12, 2018 | April 1, 2019.
22723 | 0648-XG852 | Sean Todd, Ph.D., College of the Atlantic, 105 Eden Street, Bar Harbor, ME 04609 | 84 FR 9094, March 13, 2019 | April 23, 2019.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: May 13, 2019.
Julia Marie Harrison,
Chief, Permits and Conservation Division, Office of Protected Resources, National Marine Fisheries Service.

[FR Doc. 2019-10162 Filed 5-15-19; 8:45 am]

BILLING CODE 3510-22-P